DEPARTMENT OF ENERGY

Federal Energy Regulatory Commission

Notice of Workshop; Better Stakeholder Involvement: How to Make It Work

July 9, 2002.

The Office of Energy Projects is continuing the second phase of its Better Stakeholder Involvement Series with a workshop to be held in Denver, Colorado on Thursday, August 8, 2002. We are again inviting interstate natural gas companies; Federal, state and local agencies; landowners and other non-governmental organizations interested in developing strategies for involving people in the pre-filing planning process for natural gas pipelines.

We will be working from the ideas outlined in staff's December 2001 report: “Ideas for Better Stakeholder Involvement In The Interstate Natural Gas Pipeline Planning Pre-Filing Process.” ¹ Our intent is to identify ways to assist all involved parties in working together to resolve issues early in the pipeline planning process; help companies prepare and file complete applications; and to expedite the Commission's regulatory process, where appropriate.

¹ The staff report can be downloaded from the FERC web-site at www.ferc.gov or requested by e-mail at: gasoutreach@ferc.gov.

As we consider various ways to accomplish the pre-filing objectives, the Denver workshop will focus on methods of communication and the dissemination of information to the stakeholders. The workshop will include presentations from panel members sharing their experiences, and an open discussion forum for all participants. We will not discuss the merits of any pending or planned pipeline projects.

The workshop will be held at the Red Lion Hotel Denver Central, 4040 Quebec Street, Denver, Colorado 80216, phone number 1-303-321-6666. A preliminary agenda and directions to the hotel are enclosed.

If you plan to attend or have suggestions for the agenda, please respond by Friday, August 2, 2002 via facsimile to Roberta Coulter at 202/208-0353, or you may email our team at: gasoutreach@ferc.gov. Please include in the response the names, addresses, and telephone numbers of all attendees from your organization.

To help us enhance our panel discussions, please consider, and forward to us, issues and/or questions you would like to have addressed at the meetings. If you have any questions, you may contact any of the staff listed below:

Lauren O'Donnell 202/208-0325

Jeff Shenot 202/219-2178

Howard Wheeler 202/208-2299

J. Mark Robinson,
Director, Office of Energy Projects.
Attachments.

Preliminary Workshop Agenda—Better Stakeholder Involvement: How to Make It Work

Denver Workshop

August 8, 2002, 9:00 am-4:30 pm

Overview

The Denver meeting will be an interactive workshop that provides time for communication among the stakeholder groups. The meeting is geared toward brainstorming and idea generation. Speakers will address the following topics to set the stage for discussion.

Discussion Topics

• Elements of Company Public Participation Plans: Getting the Word Out

• The Land Agent's Viewpoint: Making Contact

• Project-Specific Website Development: Demonstrations

• Maintaining the Agency/Company Relationship: A Case Study

• Working with State and Federal Agencies: How Early is Too Early?

• The Citizen Perspective: Before You Come On My Land. * * *

Your Participation

Please come prepared with examples of innovative tools and ideas that work. In addition to panel presentations, we expect group discussion to add to our collective understanding of how best to inform and involve all stakeholders in the pre-filing siting process.

BILLING CODE 6717-01-P

[FR Doc. 02-17725 Filed 7-12-02; 8:45 am]

BILLING CODE 6717-01-C